DEPARTMENT OF TRANSPORTATION

[Docket No. DOT-OST-2004-16951]

Agency Requests for Renewal of a Previously Approved Information Collection: Exemptions for Air Taxi Operations

AGENCY: Office of the Secretary, OST, Department of Transportation (DOT)

ACTION: Notice and request for comments.

SUMMARY: The Department of Transportation (DOT) invites public comments about the agency's intention to request the Office of Management and Budget (OMB) approval to renew an information collection. The collection involves a classification of air carriers known as air taxi operators and their filings of a one-page form that enables them to obtain economic authority from DOT. The information to be collected is necessary for DOT to determine whether an air taxi operator meets DOT's criteria for an economic authorization in accordance with DOT rules. We are required to publish this notice in the Federal Register by the Paperwork Reduction Act of 1995, Public Law 104-13.

DATES: Written comments should be submitted by September 8, 2025.

ADDRESSES: You may submit comments identified by Docket No. DOT-OST-2004-16951 through one of the following methods:

• Federal eRulemaking Portal: http://www.regulations.gov. Follow the online instructions for submitting comments.

• Mail or Hand Delivery: Dockets Operations, U.S. Department of Transportation, 1200 New Jersey Avenue SE, West Building, Room W12-140, Washington, DC 20590, between 9 a.m. and 5 p.m., Monday through Friday, except on Federal holidays.

FOR FURTHER INFORMATION CONTACT: Barbara Snoden, (202) 366-4834 (Voice) or barbara.snoden@dot.gov (Email), Office of Aviation Analysis, Office of the Secretary, U.S. Department of Transportation, 1200 New Jersey Avenue SE, Washington, DC 20590.

SUPPLEMENTARY INFORMATION:

OMB Control Number: 2105-0565.

Title: Exemptions for Air Taxi Operations.

Form Numbers: OST Form 4507.

Type of Review: Renewal of previously approved information collection.

Background: Part 298 of Title 14 of the Code of Federal Regulations, Exemptions for Air Taxi Registration, establishes a classification of air carriers known as air taxi operators that offer on-demand passenger service. The regulation exempts these small operators from certain provisions of the Federal statue to permit them to obtain economic authority by filing a one-page, front and back, OST Form 4507, Air Taxi Operator Registration, and Amendments under Part 298 of DOT's Regulations.

DOT expects to receive 200 new air taxi registrations and 2,200 amended air taxi registrations each year, resulting in 2,400 total respondents. Further, DOT expects filers of new registrations to take 1 hour to complete the form, while it should only take 30 minutes to prepare amendments to the form. Thus, the total annual burden is expected to be 1,300 hours.

Respondents: U.S. air taxi operators.

Number of Respondents: 2,400.

Frequency: On occasion.

Number of Responses: 2,400.

Total Annual Burden: 1,300 hours.

Public Comments Invited: You are asked to comment on any aspect of this information collection, including (a) whether the proposed collection of information is necessary for the Office of the Secretary's performance; (b) the accuracy of the estimated burden; (c) ways for Office of the Secretary to enhance the quality, utility and clarity of the information collection; and (d) ways that the burden could be minimized without reducing the quality of the collected information. The agency will summarize and/or include your comments in the request for OMB's clearance of this information collection.

Authority: The Paperwork Reduction Act of 1995; 44 U.S.C. Chapter 35, as amended; and 49 CFR 1:48.

Issued in Washington, DC, on July 8. 2025.
Lauralyn Jean Remo Temprosa,
Associate Director, Air Carrier Fitness Division, Office of Aviation Analysis.

[FR Doc. 2025-12880 Filed 7-9-25; 8:45 am]

BILLING CODE 4910-9X-P